FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011756-002.

Title: New World Alliance/Evergreen Slot Exchange Agreement.

Parties: APL Co. Pte. Ltd. and American President Lines, Ltd.; Mitsui O.S.K. Lines, Ltd.; Hyundai Merchant Marine Co., Ltd.; and Evergreen Marine Corp. (Taiwan) Ltd.

Filing Party: Eliot J. Halperin, Esq.; Manelli, Denison & Selter PLLC; 2000 M Street, NW.; 7th Floor; Washington, DC 20036.

Synopsis: The modification would permit greater flexibility in allocating space under the agreement. The parties request expedited review.

Dated: November 12, 2004.
By Order of the Federal Maritime Commission.
Karen V. Gregory,
Assistant Secretary.

[FR Doc. 04-25488 Filed 11-16-04; 8:45 am]

BILLING CODE 6730-01-P